DEPARTMENT OF COMMERCE

International Trade Administration

[A-122-840]

Notice of Amended Final Determination of Sales at Less Than Fair Value and Antidumping Duty Order: Carbon and Certain Alloy Steel Wire Rod from Canada

AGENCY: Import Administration, International Trade Administration, Department of Commerce.

ACTION: Notice of antidumping duty orders.

EFFECTIVE DATE: October 29, 2002.

FOR FURTHER INFORMATION CONTACT: Constance Handley or Amber Musser, Office of AD/CVD Enforcement 2, Import Administration, International Trade Administration, U.S. Department of Commerce, 14th Street and Constitution Avenue, NW, Washington, DC 20230; telephone: (202) 482-0631 or (202) 482-1777, respectively.

SUPPLEMENTARY INFORMATION:

The Applicable Statute and Regulations

Unless otherwise indicated, all citations to the Tariff Act of 1930, as amended (the Act), are references to the provisions effective January 1, 1995, the effective date of the amendments made to the Act by the Uruguay Round Agreements Act. In addition, unless otherwise indicated, all citations to the Department's regulations are to the regulations at 19 CFR part 351 (2002).

Background

On August 30, 2002, the Department published its final determination in the antidumping duty investigation of carbon and certain alloy steel wire rod from Canada. See Final Determination of Sales at Less Than Fair Value: Carbon and Certain Alloy Steel Wire Rod From Canada; 67 FR 55782 (August 30, 2002) (Final Determination).

On October 15, 2002 the International Trade Commission (the ITC) notified the Department of its final determination pursuant to section 735(b)(1)(A)(i) of the Act that an industry in the United States is materially injured by reason of less-than-fair-value imports of subject merchandise from Canada.

Scope of the Orders

The merchandise covered by this investigation is certain hot-rolled products of carbon steel and alloy steel, in coils, of approximately round cross section, 5.00 mm or more, but less than 19.00 mm, in solid cross-sectional diameter.

Specifically excluded are steel products possessing the above-noted physical characteristics and meeting the Harmonized Tariff Schedule of the United States (HTSUS) definitions for (a) stainless steel; (b) tool steel; (c) high nickel steel; (d) ball bearing steel; and (e) concrete reinforcing bars and rods. Also excluded are (f) free machining steel products (i.e., products that contain by weight one or more of the following elements: 0.03 percent or more of lead, 0.05 percent or more of bismuth, 0.08 percent or more of sulfur, more than 0.04 percent of phosphorus, more than 0.05 percent of selenium, or more than 0.01 percent of tellurium).

Also excluded from the scope are 1080 grade tire cord quality wire rod and 1080 grade tire bead quality wire rod. This grade 1080 tire cord quality rod is defined as: (i) grade 1080 tire cord quality wire rod measuring 5.0 mm or more but not more than 6.0 mm in cross-sectional diameter; (ii) with an average partial decarburization of no more than 70 microns in depth (maximum individual 200 microns); (iii) having no inclusions greater than 20 microns; (iv) having a carbon segregation per heat average of 3.0 or better using European Method NFA 04-114; (v) having a surface quality with no surface defects of a length greater than 0.15 mm; (vi) capable of being drawn to a diameter of 0.30 mm or less with 3 or fewer breaks per ton, and (vii) containing by weight the following elements in the proportions shown: (1) 0.78 percent or more of carbon, (2) less than 0.01 percent of aluminum, (3) 0.040 percent or less, in the aggregate, of phosphorus and sulfur, (4) 0.006 percent or less of nitrogen, and (5) not more than 0.15 percent, in the aggregate, of copper, nickel and chromium.

This grade 1080 tire bead quality rod is defined as: (i) grade 1080 tire bead quality wire rod measuring 5.5 mm or more but not more than 7.0 mm in cross-sectional diameter; (ii) with an average partial decarburization of no more than 70 microns in depth (maximum individual 200 microns); (iii) having no inclusions greater than 20 microns; (iv) having a carbon segregation per heat average of 3.0 or better using European Method NFA 04-114; (v) having a surface quality with no surface defects of a length greater than 0.2 mm; (vi) capable of being drawn to a diameter of 0.78 mm or larger with 0.5 or fewer breaks per ton; and (vii) containing by weight the following elements in the proportions shown: (1) 0.78 percent or more of carbon, (2) less than 0.01 percent of soluble aluminum, (3) 0.040 percent or less, in the aggregate, of phosphorus and sulfur, (4) 0.008 percent or less of nitrogen, and (5) either not more than 0.15 percent, in the aggregate, of copper, nickel and chromium (if chromium is not specified), or not more than 0.10 percent in the aggregate of copper and nickel and a chromium content of 0.24 to 0.30 percent (if chromium is specified).

The designation of the products as “tire cord quality” or “tire bead quality” indicates the acceptability of the product for use in the production of tire cord, tire bead, or wire for use in other rubber reinforcement applications such as hose wire. These quality designations are presumed to indicate that these products are being used in tire cord, tire bead, and other rubber reinforcement applications, and such merchandise intended for the tire cord, tire bead, or other rubber reinforcement applications is not included in the scope. However, should petitioners or other interested parties provide a reasonable basis to believe or suspect that there exists a pattern of importation of such products for other than those applications, end-use certification for the importation of such products may be required. Under such circumstances, only the importers of record would normally be required to certify the end use of the imported merchandise.

All products meeting the physical description of subject merchandise that are not specifically excluded are included in this scope.

The products subject to this order are currently classifiable under subheadings 7213.91.3010, 7213.91.3090, 7213.91.4510, 7213.91.4590, 7213.91.6010, 7213.91.6090, 7213.99.0031, 7213.99.0038, 7213.99.0090, 7227.20.0010, 7227.20.0020, 7227.20.0090, 7227.20.0095, 7227.90.6051, 7227.90.6053, 7227.90.6058, and 7227.90.6059 of the HTSUS. Although the HTSUS subheadings are provided for convenience and customs purposes, the written description of the scope of this proceeding is dispositive.

Amended Final Determination

On August 23, 2002, in accordance with section 735(a) of the Act, the Department made a final determination that carbon and certain alloy steel wire rod from Canada is being, or is likely to be, sold in the United States at less than fair value. See Final Determination. One of the three respondents¹ and the petitioners² filed timely allegations that the Department had made ministerial errors in its final determination. We have determined, in accordance with 19 CFR 351.224, that certain ministerial errors were made in the final determination.

¹ The three respondents are Ivaco, Inc., Ispat Sidbec Inc., and Stelco Inc. Of these companies, only Ivaco alleged that the Department had made ministerial errors.

² The petitioners in this investigation are Co-Steel Raritan, Inc., GS Industries, Inc., Keystone Consolidated Industries, Inc., and North Star Steel Texas, Inc.

For Ispat Sidbec Inc. (Ispat), we corrected errors pertaining to the calculation of credit expense, and revised further-manufacturing costs in the calculation of net U.S. prices.

For Ivaco Inc. (Ivaco), we made a number of corrections, including

- revising freight to warehouse expense, freight revenue, warehousing expense, credit expense and U.S. inventory carrying costs for certain sales.

- revising the margin program to correctly distinguish between Ivaco's export price (EP) and constructed export price (CEP) sales,

- revising the below-cost test to exclude imputed inventory carrying costs,

- subtracting early payment discounts from the gross unit price in the calculation of indirect selling expenses,

- modifying the packing expenses for Ivaco's sales which were further processed by Sivaco Ontario,

- and correcting the figure used for foreign exchange gains and losses, which changed the financial expense ratio.

Finally, for all three respondents we excluded the sales of non-prime material from the arm's-length test. For a detailed discussion of the Department's analysis of the parties' allegations of ministerial errors, see Memorandum to Faryar Shirzad, Assistant Secretary, Import Administration, from Daniel O'Brien, AD/CVD Office 5, Ministerial Error Allegations, dated September 27, 2002. Therefore, in accordance with 19 CFR 351.224(e), we are amending the final determination of the antidumping duty investigation of carbon and certain alloy steel wire rod from Canada to correct these ministerial errors.

The revised final weighted-average dumping margins are as follows:

Manufacturer/exporter | Original Weighted-Average Margin (Percent) | Amended Weighted- Average Margin (Percent)
ISI | 2.54 | 3.86
Ivaco | 13.35 | 9.90
Stelco | 1.18* | 1.18*
All Others | 9.91 | 8.11
* De minimis - excluded from the calculation of the “All Others” rate.

Antidumping Duty Order

On October 15, 2002, in accordance with section 735(d) of the Act, the ITC notified the Department of its final determination that the industry in the United States producing carbon and certain alloy steel wire rod is materially injured within the meaning of section 735(b)(1)(A)(ii) of the Act by reason of imports of the subject merchandise from Canada.

In accordance with section 736(a)(1) of the Act, the Department will direct the Customs Service to assess, upon further advice by the Department, antidumping duties equal to the amount by which the normal value of the merchandise exceeds the EP or CEP of the merchandise for all relevant entries of carbon and certain alloy steel wire rod from Canada. These antidumping duties will be assessed on (1) all unliquidated entries of carbon and certain alloy steel wire rod from Canada entered, or withdrawn from warehouse, for consumption on or after April 10, 2002, the date on which the Department published its notice of preliminary determination in the Federal Register, and before October 7, 2002, the date on which the Department was required, pursuant to section 733(d)(3) of the Act, to terminate the suspension of liquidation; and (2) on all merchandise, with the exception of the merchandise produced by Stelco, entered, or withdrawn from warehouse, for consumption, on or after the date of publication of this antidumping duty order in the Federal Register. Entries of carbon and certain alloy steel wire rod made between October 7, 2002, and the day preceding the date of publication of this notice in the Federal Register, are not liable for the assessment of antidumping duties due to the Department's termination, effective October 7, 2002, of the suspension of liquidation. On or after the date of publication of this notice in the Federal Register, the Customs service must require, at the same time as importers would normally deposit estimated duties on this merchandise, a cash deposit equal to the estimated weighted-average antidumping duty margins as noted above.

This notice constitutes the antidumping duty order with respect to carbon and certain alloy steel wire rod from Canada, pursuant to section 736(a) of the Act. Interested parties may contact the Department's Central Records Unit, Room B-099 of the Main Commerce Building, for copies of an updated list of antidumping duty orders currently in effect.

This order is issued and published in accordance with section 736(a) of Act and 19 CFR 351.211.

Dated: October 18, 2002.
Joseph A. Spetrini,
Acting Assistant Secretary for Import Administration.

[FR Doc. 02-27258 Filed 10-28-02; 8:45 am]

BILLING CODE 3510-DS-S